DEPARTMENT OF ENERGY

Federal Energy Regulatory Commission

[Docket No. RP96-312-027]

Tennessee Gas Pipeline Company; Notice of Negotiated Rate Filing

March 29, 2000.

Take notice that on March 24, 1999, Tennessee Gas Pipeline Company (Tennessee), tendered for filing two firm service agreements and a description of the essential conditions involved in agreeing to two (2) Negotiated Rate Arrangements. Tennessee requests that the Commission approve the Negotiated Rate Arrangements to be effective on April 1, 2000, for one agreement and May 1, 2000, for the other agreement.

Tennessee states that the filed Negotiated Rate Arrangements reflect negotiated rates between Tennessee and Consolidated Edison Company of New York, Inc. (Con Edison) for transportation service, under two transportation agreements for a period to be effective beginning April 1, 2000, until October 31, 2003, for one and for a period beginning May 1, 2000, until November 30, 2002, for the other.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call (202) 208-2222 for assistance).

Linwood A. Watson, Jr.,
Acting Secretary.

[FR Doc. 00-8275 Filed 4-3-00; 8:45 am]

BILLING CODE 6717-01-M